DEPARTMENT OF COMMERCE

International Trade Administration

[A-821-802]

Agreement Suspending the Antidumping Investigation on Uranium From the Russian Federation; Correction to the Notice of Initiation of Antidumping and Countervailing Duty Administrative Reviews

AGENCY: Import Administration, International Trade Administration, Department of Commerce.

ACTION: Correction to notice of initiation of antidumping and countervailing duty administrative reviews.

EFFECTIVE DATE: November 24, 2004.

FOR FURTHER INFORMATION CONTACT: Sally Gannon or Jonathan Herzog, Office of Policy and Negotiations, Bilateral Agreements Unit, Import Administration, International Trade Administration, U.S. Department of Commerce, 14th Street and Constitution Avenue, NW., Washington DC 20230; telephone (202) 482-0162 or (202) 482-4271, respectively.

Background

On November 19, 2004, the Department of Commerce (“the Department”) published in the Federal Register a notice of the initiation of antidumping and countervailing duty administrative reviews. See Initiation of Antidumping and Countervailing Duty Administrative Reviews, 69 FR 67701 (November 19, 2004) (“Initiation Notice”). In the Initiation Notice, the Department inadvertently listed the initiation of an administrative review of the Agreement Suspending the Antidumping Investigation on Uranium from the Russian Federation (“Russian uranium suspension agreement”). See Initiation Notice, 69 FR at 67701. The Department has not initiated an administrative review of the Russian uranium suspension agreement. Therefore, the Initiation Notice is hereby corrected to reflect that the administrative review of the Russian uranium suspension agreement has not been initiated.

This notice is published in accordance with sections 751(a) of the Tariff Act of 1930, as amended (19 U.S.C. 1675(a)), and 19 CFR 351.221(c)(1)(I).

Dated: November 22, 2004.
Holly A. Kuga,
Senior Office Director, Office 4 for Import Administration.

[FR Doc. 04-26176 Filed 11-23-04; 8:45 am]

BILLING CODE 3510-DS-P